DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Study To Evaluate a Healthy Start Campaign To Increase Awareness of the Importance of Prenatal Care—(NEW)

The Health Resources and Services Administration (HRSA) proposes to conduct a study to evaluate the impact of a Healthy Start public awareness campaign designed by The Advertising Council, Inc., that is using public service announcements (PSAs) to increase awareness of the importance of prenatal care. The study will employ a survey methodology developed by the Advertising Council to monitor changes in awareness of, and attitudes toward, prenatal care over the course of one year, and relate those changes to advertising exposure on the issue of interest and other activities in the marketplace. The study will utilize a standardized questionnaire previously developed by the Advertising Council for this project, and will be implemented as part of a larger multi-agency study covering multiple Advertising Council campaigns on a variety of themes. Information from this study will be used to evaluate the effectiveness of using PSAs to reduce infant mortality by getting more pregnant women into prenatal care. HRSA's Maternal and Child Health Bureau (MCHB) is administering this project. HRSA has included national performance measures for infant mortality reduction for this project, in accordance with the requirements of the “Government Performance and Results Act (GPRA) of 1993” (Public Law 103-62). This act requires the establishment of measurable goals for Federal programs that can be reported as part of the budgetary process, thus linking funding decisions with performance.

The estimated response burden is as follows:

Type of form | Number of respondents | Responses per respondent | Burden hours per response | Total burden hours
Tracking questionnaire | 4,650 | 1 | .25 | 1,163

Send comments to Susan G. Queen, Ph.D., HRSA Reports Clearance Officer, Room 14-33, Parklawn Building, 5600 Fishers Lane, Rockville, MD 20857. Written comments should be received within 60 days of this notice.

Dated: June 4, 2001.
Jane M. Harrison,
Director, Division of Policy Review and Coordination.

[FR Doc. 01-14590 Filed 6-8-01; 8:45 am]

BILLING CODE 4160-15-P